NUCLEAR REGULATORY COMMISSION

[Docket No. 50-607]

In the Matter of Department of the Air Force (McClellan Nuclear Radiation Center); Order Approving Transfer of License and Conforming Amendment

I

The United States Air Force (USAF) is the owner of the McClellan Nuclear Radiation Center (MNRC) and is authorized to possess, use, and operate the facility as reflected in Operating License No. R-130. The Nuclear Regulatory Commission issued Operating License No. R-130 on August 13, 1998, pursuant to Part 50 of Title 10 of the Code of Federal Regulations (10 CFR Part 50). The facility is located on McClellan Air Force Base in Sacramento, California.

II

By letters dated April 13, 1999, the USAF and the Regents of the University of California (University of California) each submitted an application requesting approval of the proposed transfer of Operating License No. R-130 from the USAF to the University of California. The University of California at Davis (UCD), part of the University of California, was proposed to be the actual operator of the facility. The application was supplemented by submittals dated July 19 and August 4, 1999, and January 18 and 27, 2000. The initial application and the supplements are hereinafter collectively referred to as “the application” unless otherwise indicated.

According to the application, the USAF has agreed to convey the MNRC to the University of California. After completion of the proposed license transfer, UCD would be the sole operator of the MNRC. The application also sought the approval of a conforming amendment. This conforming amendment is necessary to remove references to the USAF from the operating license and replace them with references to the UCD, as appropriate, as well as to make other miscellaneous administrative changes to the operating license to reflect the transfer.

Under 10 CFR 50.80, no license for a production or utilization facility, or any right thereunder, shall be transferred, directly or indirectly, through transfer of control of the license, unless the Commission shall give its consent in writing. Upon review of the information in the application and other information before the Commission, the NRC staff has determined that the University of California is qualified to hold the license, and that the transfer of the license to the University of California is otherwise consistent with applicable provisions of law, regulations, and orders issued by the Commission. The NRC staff has further found that the application for the proposed license amendment complies with the standards and requirements of the Atomic Energy Act of 1954, as amended, and the Commission's rules and regulations set forth in 10 CFR Chapter I; the facility will operate in conformity with the application, the provisions of the Act, and the rules and regulations of the Commission; there is reasonable assurance that the activities authorized by the proposed license amendment can be conducted without endangering the health and safety of the public and that such activities will be conducted in compliance with the Commission's regulations; the issuance of the proposed license amendment will not be inimical to the common defense and security or to the health and safety of the public; and the issuance of the proposed amendment will be in accordance with 10 CFR Part 51 of the Commission's regulations and all applicable requirements have been satisfied. The foregoing findings are supported by a Safety Evaluation dated December 2, 1999.

Accordingly, It is hereby ordered that the transfer of the license as described herein to the University of California is approved, subject to the following condition:

Should the transfer of the license not be completed by June 30, 2000, this Order shall become null and void, provided, however, on written application and for good cause shown, such date may in writing be extended.

It is further ordered that, consistent with 10 CFR 2.1315(b), a license amendment that makes changes, as indicated in Enclosure 2 to the cover letter forwarding this Order, to conform the license to reflect the transfer is approved.

This Order is effective upon issuance.

Dated at Rockville, Maryland, this 1st day of February 2000.
For the Nuclear Regulatory Commission.
David B. Matthews,
Director, Division of Regulatory Improvement Programs, Office of Nuclear Reactor Regulation.

[FR Doc. 00-4463 Filed 2-24-00; 8:45 am]

BILLING CODE 7590-01-P